MEDICARE PAYMENT ADVISORY COMMISSION

Commission Meeting

AGENCY: Medicare Payment Advisory Commission.

ACTION: Notice of meeting.

SUMMARY: The Commission will hold its next public meeting on Thursday, October 28, 2004, and Friday, October 29, 2004, at the Ronald Reagan Building, International Trade Center, 1300 Pennsylvania Avenue, NW., Washington, DC. The meeting is tentative scheduled to begin at 10 a.m. on October 28, and at 9 a.m. on October 29.

Topics for discussion include findings on congressionally mandated studies including: specialty hospitals; certified registered nurse first assistants; physician practice expense; cardiothoracic surgeons, and direct access to physical therapy. Additional presentations will include hospital quality, initial findings on private plans' use of imaging services, and a panel on health information technology. The Commission will also begin discussion on payment adequacy for various Medicare providers.

Agendas will be e-mailed approximately one week prior to the meeting. The final agenda will be available on the Commission's Web site (www.MedPAC.gov).

ADDRESSES: MedPAC's address is: 601 New Jersey Avenue, NW., Suite 9000, Washington, DC 20001. The telephone number is (202) 220-3700.

FOR FURTHER INFORMATION CONTACT: Diane Ellison, Office Manager, (202) 220-3700.

Sarah S. Thomas,
Deputy Director.

[FR Doc. 04-23205 Filed 10-15-04; 8:45 am]

BILLING CODE 6820-BW-M